SOCIAL SECURITY ADMINISTRATION

[Docket No. SSA-2009-0033]

Occupational Information Development Advisory Panel Meeting

AGENCY: Social Security Administration (SSA).

ACTION: Notice of upcoming quarterly panel meeting.

DATES: June 10, 2009, 8:30 a.m.-5 p.m. (CDT); and June 11, 2009, 8:30 a.m.-12 p.m. (CDT).

Location: Hyatt Regency McCormick Place.

ADDRESSES: 2233 South Martin L. King Drive, Chicago, IL 60616.

SUPPLEMENTARY INFORMATION: Type of meeting: The meeting is open to the public.

Purpose: This discretionary Panel, established under the Federal Advisory Committee Act of 1972, as amended, shall report to the Commissioner of Social Security. The Panel will provide independent advice and recommendations on plans and activities to replace the Dictionary of Occupational Titles used in the Social Security Administration's (SSA) disability determination process. The Panel will advise the Agency on creating an occupational information system tailored specifically for SSA's disability programs and adjudicative needs. Advice and recommendations will relate to SSA's disability programs in the following areas: Medical and vocational analysis of disability claims; occupational analysis, including definitions, ratings and capture of physical and mental/cognitive demands of work and other occupational information critical to SSA disability programs; data collection; use of occupational information in SSA's disability programs; and any other area(s) that would enable SSA to develop an occupational information system suited to its disability programs and improve the medical-vocational adjudication policies and processes.

Agenda: The Panel will meet on Wednesday, June 10, 2009, from 8:30 a.m.until 5 p.m. (CDT) and Thursday, June 11, 2009, from 8:30 a.m. until 12 p.m. (CDT). The agenda will be available on the Internet at http://www.socialsecurity.gov/oidap/ one week prior to the meeting.

The tentative agenda for this meeting includes: Presentations by stakeholder organizations for the purpose of identifying perceived gaps that currently exist between the occupational information available in the DOT and that is believed necessary to adjudicate claims in SSA's disability programs to ensure a proper assessment of the claimants' abilities to do their past work and, if not, their abilities to do any other work in the economy given the claimants' work histories and the physical, mental, or cognitive limitations resulting from claimants' impairments. There will be discussion and identification of areas where additional or new occupational information is needed, for example, as it relates to the physical or mental demands of work, educational requirements of work, work settings, and work skills. The Panel will hear presentations on taxonomic issues and proposed methodologies for developing a classification system. The Panel will discuss and deliberate on issues relevant to the Panel's recommendations and hold an administrative business meeting.

The Panel will hear public comment during the Quarterly Meeting on Wednesday, June 10, 2009, from 2:30 p.m. to 3:30 p.m. (CDT). Members of the public must schedule a time slot—assigned on a first come, first served basis—in order to comment. In the event public comment does not take the entire time allotted, the Panel may use any remaining time to deliberate or conduct other Panel business.

Persons interested in providing testimony in person at the meeting or via teleconference should contact the Panel staff by e-mail to OIDAP@ssa.gov. Individuals are limited to a maximum five minute, verbal presentation. Organizational representatives will be allotted a maximum ten minute verbal presentation. Written testimony, no longer than five (5) pages, may be submitted at any time either in person, mail, fax or e-mail to OIDAP@ssa.gov for Panel consideration.

Seating is limited. Individuals who need special accommodation in order to attend or participate in the meeting (e.g., sign language interpretation, assistive listening devices, or materials in alternative formats, such as large print or CD) should notify Debra Tidwell-Peters via e-mail to debra.tidwell-peters@ssa.gov or by telephone at 410-965-9617, no later than May 25, 2009. SSA will attempt to meet requests made but cannot guarantee availability of services. All meeting locations are barrier free.

If you want to access the meeting by teleconference, please send your name and contact information to OIDAP@ssa.gov one week prior to the start date of the meeting.

Contact Information: Records of all public Panel proceedings are maintained and available for inspection. Anyone requiring further information should contact the Panel staff at: Occupational Information Development Advisory Panel, Social Security Administration, 6401 Security Boulevard, 3-E-26 Operations, Baltimore, MD 21235-0001. Telephone: 410-965-9617. Fax: 410-597-0825. E-mail to OIDAP@ssa.gov. For additional information, please visit the Panel Web site at http://www.ssa.gov/oidap.

Dated: May 6, 2009.
Debra Tidwell-Peters,
Designated Federal Officer, Occupational Information Development Advisory Panel.

[FR Doc. E9-11068 Filed 5-12-09; 8:45 am]

BILLING CODE 4191-02-P